DEPARTMENT OF HEALTH AND HUMAN SERVICES

National Institutes of Health

Proposed Collection; 60-Day Comment Request; the National Institute of Mental Health Data Archive (NDA) Data Access Closeout Report, NIMH

AGENCY: National Institutes of Health, HHS.

ACTION: Notice.

SUMMARY: In compliance with the requirement of the Paperwork Reduction Act of 1995 to provide opportunity for public comment on proposed data collection projects, the National Institutes of Health (NIH) will publish periodic summaries of proposed projects to be submitted to the Office of Management and Budget (OMB) for review and approval.

DATES: Comments regarding this information collection are best assured of having their full effect if received within 60 days of the date of this publication.

FOR FURTHER INFORMATION CONTACT: To obtain a copy of the data collection plans and instruments, submit comments in writing, or request more information on the proposed project, contact: Andrew Hooper, National Institute of Mental Health (NIMH) Project Clearance Liaison, Science Policy and Evaluation Branch, Office of Science Policy, Planning and Communications, NIMH, Neuroscience Center, 6001 Executive Boulevard, MSC 9667, Bethesda, Maryland 20892, call (301) 480-8433, or email your request, including your mailing address, to nimhprapubliccomments@mail.nih.gov. Formal requests for additional plans and instruments must be requested in writing.

SUPPLEMENTARY INFORMATION: Section 3506(c)(2)(A) of the Paperwork Reduction Act of 1995 requires: written comments and/or suggestions from the public and affected agencies are invited to address one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimizes the burden of the collection of information on those who are to respond, including the use of appropriate automated, electronic, mechanical, or other technological collection techniques or other forms of information technology.

Proposed Collection Title: The National Institute of Mental Health Data Archive (NDA) Data Access Closeout Report, NEW, OMB #0925-XXXX, exp., date XX/XX/XXXX, National Institutes of Health (NIH).

Need and Use of Information Collection: This request serves as notice that the National Institutes of Health (NIH) plans to continue supporting the research community's utilization of the NIMH Data Archive (NDA) through the addition of the Data Access Closeout Report, which collects information about researchers who are completing an approved term of access to shared data in the NDA. The NDA is an infrastructure for sharing human subjects research data and tools to further collaboration and scientific discovery. The information collected in the Closeout Report is needed to monitor the expiration of permissions to access NDA data, track and report on permissions and requests, confirm destruction of all copies of accessed data, ensure that the terms of access are followed, and provide appropriate attribution for data contributions, and communicate important information about the NDA.

OMB approval is requested for 3 years. There are no costs to respondents other than their time. The total estimated annualized burden hours are 471.

Estimated Annualized Burden Hours
Type of respondent | Number of respondents | Number of responses per respondent | Average time per response (in hours) | Total annual burden hours
Researchers | 941 | 1 | 30/60 | 471
Total |  | 941 |  | 471

Dated: August 4, 2025.
Andrew A. Hooper,
Project Clearance Liaison, National Institute of Mental Health, National Institutes of Health.

[FR Doc. 2025-14950 Filed 8-6-25; 8:45 am]

BILLING CODE 4140-01-P